FEDERAL COMMUNICATIONS COMMISSION

Notice of Public Information Collection(s) Being Reviewed by the Federal Communications Commission for Extension Under Delegated Authority, Comments Requested

July 22, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before October 4, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov.

FOR FURTHER INFORMATION CONTACT: Judith B. Herman, Office of Managing Director, (202) 418-0214. For additional information, contact Judith B. Herman, OMD, 202-418-0214 or email judith-b.herman@fcc.gov.

SUPPLEMENTARY INFORMATION: OMB Control Number: 3060-1110.

Title: Sunset of the Cellular Radiotelephone Service Analog Service Requirement and Related Matters, FCC 07-103.

Form No.: N/A.

Type of Review: Extension of a currently approved collection.

Respondents: Business or other for-profit, not-for-profit institutions, and state, local or tribal government.

Number of Respondents and Responses: 118 respondents; 118 responses.

Estimated Time Per Response: 24 hours.

Frequency of Response: Third party disclosure requirement.

Obligation to Respond: Mandatory. Statutory authority for this information collection is contained in 47 U.S.C. sections 154(i), 201, and 303(r) and 5 U.S.C. section 554 of the Administrative Procedures Act.

Total Annual Burden: 2,832 hours.

Total Annual Cost: N/A.

Privacy Act Impact Assessment: N/A.

Nature and Extent of Confidentiality: There is no need for confidentiality.

Needs and Uses: The Commission will submit this expiring collection after this comment period to the Office of Management and Budget (OMB) to obtain the full three year clearance from them. The Commission is reporting an adjustment decrease in burden by 8,016 hours.

On June 15, 2007, the Federal Communications Commission (“Commission”) released a Memorandum Opinion and Order (MO&O), FCC 07-103, which denied a petition for rulemaking to extend the requirement that all cellular radiotelephone licensees provide analog service e to subscribers and roamers whose equipment conforms to the Advanced Mobile Phone Service (AMPS) standard. This requirement will sunset on February 18, 2008. In the MO&O, the Commission also directed cellular radiotelephone service licensees to notify their remaining analog subscribers of the sunset date and of their intention to discontinue AMPS-compatible analog service at least four months before such discontinuance, and a second time, at least 30 days before such discontinuance (the “consumer-notice requirement”).

The consumer-notice requirement will ensure that remaining analog cellular service subscribers, including persons with hearing disabilities, are fully apprised of the sunset of the analog cellular service requirement.

Federal Communications Commission.
Bulah P. Wheeler,
Acting Associate Secretary,
Office of the Secretary,
Office of Managing Director.

[FR Doc. 2010-19124 Filed 8-3-10; 8:45 am]

BILLING CODE 6712-01-S